DEPARTMENT OF COMMERCE

Foreign-Trade Zones Board

[B-37-2017]

Foreign-Trade Zone (FTZ) 114—Peoria, Illinois; Authorization of Production Activity; Bell Sports, Inc., Subzone 114F (Sports Equipment), Rantoul, Illinois

On May 15, 2017, Bell Sports, Inc., submitted a notification of proposed production activity to the FTZ Board for its facility within Subzone 114F, in Rantoul, Illinois.

The notification was processed in accordance with the regulations of the FTZ Board (15 CFR part 400), including notice in the Federal Register inviting public comment (82 FR 25597, June 2, 2017). On September 12, 2017, the applicant was notified of the FTZ Board's decision that no further review of the activity is warranted at this time. The production activity described in the notification was authorized, subject to the FTZ Act and the FTZ Board's regulations, including Section 400.14, and subject to a restriction requiring that polypropylene webbing for bike helmets be admitted to the subzone in privileged foreign status (19 CFR 146.41).

Dated: September 22, 2017.
Andrew McGilvray,
Executive Secretary.

[FR Doc. 2017-20805 Filed 9-27-17; 8:45 am]

BILLING CODE 3510-DS-P